NATIONAL AERONAUTICS AND SPACE ADMINISTRATION

[Notice: (14- 016)]

NASA Community Workshop on the Global Exploration Roadmap

AGENCY: National Aeronautics and Space Administration.

ACTION: Notice of public conference to discuss the second iteration of the Global Exploration Roadmap.

SUMMARY: The National Aeronautics and Space Administration announces that the agency will conduct a public workshop to involve the broader community in work related to the second iteration of the Global Exploration Roadmap, released in August 2013. The updated roadmap identifies candidate early exploration missions, including the Asteroid Redirect Mission, extended duration missions in the lunar vicinity and lunar surface missions that demonstrate the capabilities and techniques for human exploration of deep space and Mars. NASA will share the status of work related to the mission themes in the roadmap and encourage workshop participants to share their innovative ideas for meeting the challenges ahead.

DATES: Thursday April 10, 2014, (8 a.m. EDT)-Friday, April 11, (5 p.m. EDT).

ADDRESSES: Johns Hopkins University Applied Physics Laboratory, Kossiakoff Conference Center, 11100 Johns Hopkins Road, Laurel, MD 20723.

FOR FURTHER INFORMATION CONTACT: John Guidi, NASA Human Exploration and Operations Mission Directorate: 202-358-1644.

SUPPLEMENTARY INFORMATION: • This conference will be streamed live online. Viewing and interactive participation options will be posted at www.nasa.gov/exploration/about/isecg/ger-workshop prior to the event.

Registration

• Onsite attendance is limited. Registration will open February 27 and will close April 3. Registration details will be available starting February 27 at www.nasa.gov/exploration/about/isecg/ger-workshop.

• Anyone who is not invited to present at the workshop will be able to participate virtually through Teleconference and Adobe Connect.

Check In

• Workshop check-in will open at 7:15 a.m. EDT, Thursday April 10, 2014.

• Be prepared to show government-issued photo identification.

Media

News media interested in attending are required to pre-register and should contact NASA Human Exploration & Operations Public Affairs at 202-358-1100 for additional information.

Security

Event attendees will receive a workshop badge upon check in. All participates are asked to keep this badge on them at all times while in the facility.

Driving Directions

APL is located on Johns Hopkins Road, approximately 1/2 mile west of U.S. Route 29. There are several visitor entrances. Attendees should use the Pond Road entrance to access Credit Union, Kossiakoff Center, and East Campus (0.6 miles from Route 29).

Additional Johns Hopkins University Applied Physics Laboratory visitor information is available here: http://www.jhuapl.edu/aboutapl/visitor/default.asp.

William Gerstenmaier,
Associate Administrator, Human Exploration & Operations Mission Directorate.

[FR Doc. 2014-02653 Filed 2-6-14; 8:45 am]

BILLING CODE 7510-13-P